DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held September 21-22, 2004 from 9 a.m. to 5 p.m.

ADDRESSES: The meeting will be held at RTCA, Inc., 1828 L St., NW., Suite 805, Washington, DC 20036.

FOR FURTHER INFORMATION CONTACT: RTCA Secretariat, 1828 L St., SW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 172 meeting. The agenda will include:

• September 21:

• Opening Plenary Session (Welcome and Introductory Remarks, Review of Agenda, Review Summary of Previous Meeting).

• Convene Working Group-2.

• Review Working Papers.

• Draft DO-224B, Signal-in-Space Minimum Aviation System Performance Standard (MASPS) for Advanced VHF Digital Data Communications Including Compatibility with Digital Voice Status and proposed changes to working papers.

• Draft Appendix, Standard and Recommended Practices (SARPS) to draft DO-224B cross reference.

• September 22:

• Reconvene WG-2 as necessary, per above.

• Convene Working Group-3.

• DO-281 Section 2.2.1.1.3 Tuning Time.

• DO-271 Audio Level Test Vector.

• Load Mismatch Voltage Standing Wave Radio (VSWR) Sections 2.2.1.3.9 & 2.4.4.2.9.

• DO-281 changes needed due to International Civil Aviation Organization (ICAO) Amendment Proposals.

• DO-186a/ED23B difference resolution.

• Reconvene Plenary.

• Review relevant activities.

• ICAO Aeronautical Mobile Communications Panel work.

• NEXCOM activities.

• EUROCAE WG-47 status and issues.

• Others as appropriate.

• Future work for SC-172.

• Closing Plenary Session (Other Business, Date and Place of Next Meeting, Adjourn).

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 27, 2004.
Robert Zoldos,
FAA System Engineer, RTCA Advisory Committee.

[FR Doc. 04-20490 Filed 9-9-04; 8:45 am]

BILLING CODE 4910-13-M